DEPARTMENT OF COMMERCE

National Oceanic and Atmospheric Administration

RIN 0648-XF213

Marine Mammals; File Nos. 16609 and 20646

AGENCY: National Marine Fisheries Service (NMFS), National Oceanic and Atmospheric Administration (NOAA), Commerce.

ACTION: Notice; receipt of applications.

SUMMARY: Notice is hereby given that the Zoological Society of San Diego [Douglas Myers, Responsible Party], P.O. Box 120551, San Diego, CA 92112 (File No. 16609), and the Morgridge Institute for Research [James Thomson, Ph.D., Responsible Party], 330 N. Orchard St., Madison, WI 53715 (File No. 20646), have applied in due form for permits to import, export, and receive marine mammal parts for scientific research.

DATES: Written, telefaxed, or email comments must be received on or before March 30, 2017.

ADDRESSES: The applications and related documents are available for review by selecting “Records Open for Public Comment” from the “Features” box on the Applications and Permits for Protected Species (APPS) home page, https://apps.nmfs.noaa.gov, and then selecting File No. 16609 or 20646 from the list of available applications.

These documents are also available upon written request or by appointment in the Permits and Conservation Division, Office of Protected Resources, NMFS, 1315 East-West Highway, Room 13705, Silver Spring, MD 20910; phone (301) 427-8401; fax (301) 713-0376.

Written comments on either of these applications should be submitted to the Chief, Permits and Conservation Division, at the address listed above. Comments may also be submitted by facsimile to (301) 713-0376, or by email to NMFS.Pr1Comments@noaa.gov. Please include the File No. 16609 and/or 20646 in the subject line of the email comment.

Those individuals requesting a public hearing should submit a written request to the Chief, Permits and Conservation Division at the address listed above. The request should set forth the specific reasons why a hearing on this application would be appropriate.

FOR FURTHER INFORMATION CONTACT: Shasta McClenahan or Jennifer Skidmore; phone: (301) 427-8401.

SUPPLEMENTARY INFORMATION: The subject permit is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), and the regulations governing the taking, importing, and exporting of endangered and threatened species (50 CFR 222-226).

File No. 16609: The applicant proposes to receive, import, and export biological samples to establish and bank cell lines. Samples may be received from any species of cetacean, pinniped, or sea turtle, including ESA-listed species, from up to 30 individuals of each species. The requested duration of the permit is five years.

File No. 20646: The applicant proposes to receive, import, and export biological samples to establish and bank cetacean stem cells. Samples may be acquired for any species of marine mammal; however, the applicant has identified 38 species of cetaceans, including ESA-listed species, to focus acquisition efforts. Up to 12 individuals of each species would be requested. In addition, eight samples (from four individual animals) currently on loan would be transferred permanently to the applicant. The requested duration of the permit is five years.

In compliance with the National Environmental Policy Act of 1969 (42 U.S.C. 4321 et seq.), an initial determination has been made that the activities proposed are categorically excluded from the requirement to prepare an environmental assessment or environmental impact statement.

Concurrent with the publication of this notice in the Federal Register, NMFS is forwarding copies of the applications to the Marine Mammal Commission and its Committee of Scientific Advisors.

Dated: February 22, 2017.
Julia Harrison,
Chief, Permits and Conservation Division, Office of Protected Resources, National Marine Fisheries Service.

[FR Doc. 2017-03836 Filed 2-27-17; 8:45 am]

BILLING CODE 3510-22-P